NATIONAL FOUNDATION ON THE ARTS AND THE HUMANITIES

Announcement of Humanities Medal Design Competition Under the America COMPETES Reauthorization Act of 2010

AGENCY: National Endowment for the Humanities.

ACTION: Notice.

SUMMARY: To encourage artists and designers to create a thoughtful and imaginative visual representation of the humanities for a Presidential medal, this notice announces the Humanities Medal Design Competition under Section 105 of the America COMPETES Reauthorization Act of 2010 (Pub. L. 111-358).

DATES: Competition begins on October 1, 2012, and ends February 1, 2013. A winner will be announced on or about April 15, 2013, unless the term of the competition is extended as provided in this notice.

FOR FURTHER INFORMATION CONTACT: Judy Havemann, Director of Communications, National Endowment for the Humanities, (202) 606-8446, or medalcontest@neh.gov.

SUPPLEMENTARY INFORMATION:

Subject of the Competition

The National Endowment for the Humanities (NEH) is seeking a new design for the National Humanities Medal, which is bestowed annually by the President of the United States in a White House ceremony. NEH is one of the largest funders of humanities programs in the United States. NEH grants typically go to cultural institutions, such as museums, archives, libraries, colleges, universities, public television and radio stations, and to individual scholars. (Visit the NEH Web site, www.neh.gov.) The National Humanities Medal, inaugurated in 1997, honors individuals or groups who have made outstanding contributions to the humanities. Past winners have included author Toni Morrison, historian Stephen Ambrose, filmmaker Steven Spielberg, and Nobel laureate Elie Wiesel. It is a distinguished group of thinkers who deserve a glorious medal. A full list of medal recipients is available at www.neh.gov/about/awards/national-humanities-medals. The new medal is intended to premiere at the 2013 National Humanities Medal ceremony and will serve the NEH far into the future.

Rules for Participating in the Competition

1. Eligibility. To be eligible to win a prize under this competition, you—

(a) Must register to participate in the competition under the Official Rules promulgated by NEH;

(b) Must comply with all the requirements under this notice and the America COMPETES Act of 2010 (Pub. L. 111-358);

(c) Must be a citizen or permanent resident of the United States and 18 years of age or older before the submission period ends;

(d) May not be a Federal employee acting within the scope of your employment; and

(e) May not be an employee of NEH or an immediate family member (spouse, parents or step-parents, siblings and step-siblings, children and step-children, and household members).

2. If you are a Federal grantee, you may not use Federal funds to develop applications for this competition unless such use is consistent with the purpose of your grant award.

3. If you are a Federal contractor, you may not use Federal funds from a contract to develop or fund efforts in support applications for this competition.

4. You may use Federal facilities or consult with Federal employees during the competition if the facilities and employees are made available to all contestants participating in the competition on an equitable basis.

5. NEH will accept submissions from single individuals only and not from entities or groups of individuals. You may, however, submit more than one entry if you have developed more than one unique medal design.

6. Insurance and Indemnification.

(a) By participating in this competition, you agree to assume any and all risks and waive claims against the Federal government and its related entities, except in the case of willful misconduct, for any injury, death, damage, or loss of property, revenue, or profits, whether direct, indirect, or consequential, arising from participation in this competition, whether the injury, death, damage, or loss arises through negligence or otherwise. Provided, however, that you are not required to waive claims against NEH arising out of the unauthorized use of or disclosure by NEH of your intellectual property or confidential information.

(b) By participating in this competition, you agree to indemnify the Federal government against third party claims for damages arising from or related to competition activities.

(c) Based on the subject matter of the competition, the type of work that it will possibly require, and an analysis of the likelihood of any claims for death, bodily injury, or property damage, or loss potentially resulting from participation, NEH does not require you to obtain liability insurance or demonstrate financial responsibility in order to participate in this competition.

7. Intellectual Property Rights.

(a) By submitting a design to the competition, you represent and warrant that you are the sole author and owner of the submitted design. Designs must be your original work, and must not violate or infringe the rights of other parties, including but not limited to privacy, publicity, or intellectual property rights, or material that constitutes copyright or license infringement. Your design may not contain any material that is inappropriate, indecent, obscene, hateful, defamatory, or in any way disparaging. Your design cannot have been submitted previously in another promotion or contest of any kind.

(b) You understand and agree that if your entry is selected as the winning design, it may be modified or altered by NEH, in its sole discretion, as deemed appropriate or necessary to execute, produce, or distribute the winning design in its final medal format.

(c) The winning contestant will, in consideration of the prize to be awarded, grant to NEH an irrevocable, royalty-free, exclusive worldwide license to reproduce, distribute, copy, display, create derivative works, and publicly post, link to, and share, the winning design or parts thereof, for the purpose of the competition and for any official NEH purpose.

8. NEH reserves the right, at its sole discretion, to cancel, suspend, and/or modify the competition for any reason, which includes the right to decline to select a winning design if NEH determines that no submission satisfactorily meets the selection criteria.

9. By participating in this competition, you are providing your full and unconditional agreement to abide by the rules set forth in this notice, and by the Humanities Medal Design Competition Official Rules found at humanitiesmedaldesign.challenge.gov.

Process for Participants To Register for the Competition

NEH will accept submissions only through challenge.gov.

1. Create an account on humanitiesmedaldesign.challenge.gov or log in with an existing ChallengePost account.

2. On humanitiesmedaldesign.challenge.gov, click “Accept this challenge” to register your interest in participating. This step ensures that you will receive important competition updates.

3. After you sign up on humanitiesmedaldesign.challenge.gov a confirmation email will be sent to the email address you provided. Use the confirmation email to verify your email address. As a registered contestant, you will then be able to enter the competition by submitting an application that conforms to the requirements set forth herein.

4. Create a new visual design for the National Humanities Medal. NEH invites thoughtful and creative solutions for a new National Humanities Medal. Translating the idea of the humanities—the study of literature, philosophy, history, and other subjects—into a visual form is a challenging task. (For more about the humanities, visit the NEH Web site, www.neh.gov.) The design should reflect the importance of the award and of the humanities in a graceful, insightful, and ultimately beautiful manner.

a) Your design must include the following: The words “National Humanities Medal” and a blank area on the back of the medal of at least 3 by 1.5 inches. The name of the medalist will be engraved here.

b) Things to keep in mind as you draft a design: The medal hangs on a ribbon around the neck; the diameter of the medal should be between 3 to 4 inches; the design can use realistic or abstract elements to convey the idea of the humanities; designs should indicate relief depths, if possible, and make suggestions for type of metal, materials, patinas, and/or colors to be used.

5. Confirm that you have read and agreed to the Official Rules.

6. Submit a scanned drawing, a digital drawing, or a photograph of a sculpted model to humanitiesmedaldesign.challenge.gov between October 1, 2012, at 9:00 a.m. EST and February 1, 2013, at 5:00 p.m. EDT by uploading a ZIP, PDF, or Word file up to 10 MB. Include written text using the description summary area to describe the thought process behind the design and how it relates to the humanities.

Amount of the Prize

The winning contestant will receive $3,000 by electronic transfer and be invited to an unveiling of the final medal in Washington DC Awards may be subject to Federal income taxes, and NEH will comply with the Internal Revenue Service withholding and reporting requirements, where applicable.

Basis Upon Which Winner Will Be Selected

NEH will select a judging panel that will consist of 4-7 outside experts, chosen for their achievements in the fields of art, sculpture, minting, and cultural management, along with 2-3 representatives of NEH. Judges will be fair and impartial. A judge may not have a familial or financial relationship with an individual who is a registered contestant in the competition. Judges will fully comply with all applicable government ethics requirements for Federal employees.

Judges will use the following criteria to judge the submitted designs:

1. Design relates to the humanities. The subjects and ideas of the humanities—literature, history, philosophy—need to be conveyed in the design of the medal. This may be done through a realistic or abstract design.

2. Design will translate into a three-dimensional medal. Ultimately, the design needs to be translated into a three-dimensional medal. A winning design, which may be two-dimensional, will have to be adapted by an artisan in order to create a sculpture for the medal. Can this design become a successful bas-relief medal?

3. Design can be replicated. Between 10 and 12 medals need to be struck each year to present to National Humanities Medalists. Can this design be replicated successfully, without excessive cost, for many years to come?

4. Beauty of design. Is the design graceful, elegant, and to be cherished by its recipient? Is it worthy of a Presidential medal?

The judging panel will judge the submissions to advise the Chairman of NEH, who will choose the final winning design. All judging will take place between approximately February 15, 2013, and approximately April 10, 2013. NEH will announce the winner on or about April 15, 2013. For questions or further information, please see the contact information listed above.

Authority: 15 U.S.C. 3719.

Dated: September 26, 2012.
Carole M. Watson,
Deputy Chairman.

[FR Doc. 2012-24111 Filed 9-28-12; 8:45 am]

BILLING CODE 7536-01-P